DEPARTMENT OF STATE

[Public Notice 9108]

The State Department's § 515.582 List

AGENCY: Department of State.

ACTION: Notice, initial publication of list of goods and services produced by Cuban independent entrepreneurs eligible for importation into the United States.

SUMMARY: On February 13, 2015, the Department of State published a list of goods and services produced by independent Cuban entrepreneurs that are eligible for importation into the United States, pursuant to § 515.582 of the Department of the Treasury's Cuban Assets Control Regulations, 31 CFR part 515 (“CACR”). The State Department is issuing a Federal Register notice to this effect.

DATES: Effective Date: February 13, 2015.

FOR FURTHER INFORMATION CONTACT: Office of Economic Sanctions Policy and Implementation, tel.: 202-647-7489; Office of the Coordinator for Cuban Affairs, tel.: 202-647-9273, Department of State, Washington, DC 20520 (not toll-free numbers).

SUPPLEMENTARY INFORMATION:

Electronic Availability

This document and additional information concerning the List are available from the Department of State's Web site (www.state.gov/e/eb/tfs/spi).

Background

On January 16, 2015, the Department of the Treasury's Office of Foreign Assets Control (OFAC) published a final rule in the Federal Register (80 FR 2291) amending the Cuban Assets Control Regulations (CACR), 31 CFR part 515, to implement the President's December 17, 2014, policy announcement on Cuba. § 515.582 of the CACR was added to authorize commercial imports of certain goods and services produced by independent Cuban entrepreneurs, as determined by the State Department as set forth on the State Department's § 515.582 List. The State Department's § 515.582 List was published February 13, 2015 on its Web site (http://www.state.gov/e/eb/tfs/spi) and went into effect immediately upon publication. Per § 515.582 of the CACR, the State Department is issuing a Federal Register notice to this effect. The List is as follows, and may be updated by the State Department periodically.

U.S. Department of State

Section 515.582 List

Goods and Services Eligible for Importation

In accordance with the policy changes announced by the President on December 17, 2014, to further engage and empower the Cuban people, § 515.582 of the Cuban Assets Control Regulations (31 CFR part 515—the CACR) authorizes the importation into the United States of certain goods and services produced by independent Cuban entrepreneurs as determined by the State Department as set forth on the § 515.582 List, below.

Goods

The goods whose import is authorized by § 515.582 are goods produced by independent Cuban entrepreneurs, as demonstrated by documentary evidence, that are imported into the United States directly from Cuba, except for goods specified in the following sections/chapters of the Harmonized Tariff Schedule of the United States (HTS):

• Section I: Live Animals; Animal Products

○ All chapters

• Section II: Vegetable Products

○ All chapters

• Section III: Animal or Vegetable Fats and Oils and their Cleavage Products; Prepared Edible Fats; Animal or Vegetable Waxes

○ All chapters

• Section IV: Prepared Foodstuffs; Beverages, Spirits, and Vinegar; Tobacco and Manufactured Tobacco Substitutes

○ All chapters

• Section V: Mineral Products

○ All chapters

• Section VI: Products of the Chemical or Allied Industries

○ Chapters 28-32; 35-36, 38

• Section XI: Textile and Textile Articles

○ Chapters 51-52

• Section XV: Base Metals and Articles of Base Metal

○ Chapters 72-81

• Section XVI: Machinery and Mechanical Appliances; Electrical Equipment; Parts Thereof; Sound Recorders and Reproducers, Television Image and Sound Recorders and Reproducers, and Parts and Accessories of Such Articles

○ All chapters

• Section XVII: Vehicles, Aircraft, Vessels, and Associated Transportation Equipment

○ All chapters

• Section XIX: Arms and Ammunition; Parts and Accessories Thereof

○ All chapters

Persons subject to U.S. jurisdiction engaging in import transactions involving goods produced by an independent Cuban entrepreneur pursuant to § 515.582 must obtain documentary evidence that demonstrates the entrepreneur's independent status, such as a copy of a license to be self-employed issued by the Cuban government or, in the case of an entity, evidence that demonstrates that the entrepreneur is a private entity that is not owned or controlled by the Cuban government.

This list does not supersede or excuse compliance with any additional requirements in U.S. law or regulation, including the relevant duties as set forth on the HTS.

For travelers importing authorized goods into the United States pursuant to § 515.582 as accompanied baggage, the $400 monetary limit set forth in § 515.560(c)(3) does not apply to such goods, but goods may be subject to applicable duties, fees, and taxes.

Services

The authorized services pursuant to 31 CFR 515.582 are services supplied by an independent Cuban entrepreneur in Cuba, as demonstrated by documentary evidence. Persons subject to U.S. jurisdiction engaging in import transactions involving services supplied by an independent Cuban entrepreneur pursuant to § 515.582 are required to obtain documentary evidence that demonstrates the entrepreneur's independent status, such as a copy of a license to be self-employed issued by the Cuban government or, in the case of an entity, evidence that demonstrates that the entrepreneur is a private entity that is not owned or controlled by the Cuban government. Supply of services must comply with other applicable state and federal laws.

Note 1: All payments in settlement of transactions authorized by § 515.582 should reference this section in order to avoid having them rejected.

Note 2: The authorization in § 515.582 of the CACR does not supersede or excuse compliance with U.S. laws or regulations or any other additional requirements.

Note 3: The Department of State, in consultation with other federal agencies, reserves the right to update this document periodically. Any subsequent updates will take effect when published on the Web page of the Bureau of Economic and Business Affairs' Office of Sanctions Policy and Implementation (http://www.state.gov/e/eb/tfs/spi). Updates will also be published in the Federal Register. For further information, please contact the State Department at 202-647-7489.

Note 4: For provisions relating to recordkeeping and reports, see 31 CFR 501.601 and 501.602 and 19 CFR part 163.

With this notice, the Department of State is publishing a copy of its February 13, 2015, § 515.582 List in the Federal Register.

Dated: April 16, 2015.
Charles H. Rivkin,
Assistant Secretary for Economic and Business Affairs.

[FR Doc. 2015-09509 Filed 4-22-15; 8:45 am]

BILLING CODE 4710-07-P